DEPARTMENT OF TRANSPORTATION

Office of the Secretary

Aviation Proceedings, Agreements Filed the Week Ending March 19, 2011

The following Agreements were filed with the Department of Transportation under the sections 412 and 414 of the Federal Aviation Act, as amended (49 U.S.C. 1382 and 1384) and procedures governing proceedings to enforce these provisions. Answers may be filed within 21 days after the filing of the application.

Docket Number: DOT-OST-2011-0053.

Date Filed: March 18, 2011.

Parties: Members of the International Air Transport Association.

Subject: TC31 North & Central Pacific (except between Korea (Rep. of), Malaysia and USA) Flex Fares Resolutions Geneva, 12-13 April 2010 (Memo 0516).

(a) TC31 North & Central Pacific (except between USA and Korea (Rep. of), Malaysia) Minutes (Memo 518).

(b) TC31 North and Central Pacific (except between Korea (Rep. of), Malaysia and USA) Mail Vote 667—Resolution 111nn Flex Fares Package (Memo 0528).

Intended Effective Date: 1 April 2011.

Docket Number: DOT-OST-2011-0054.

Date Filed: March 18, 2011.

Parties: Members of the International Air Transport Association.

Subject: (a) TC31 North & Central Pacific Between Korea (Rep. of), Malaysia and USA Flex Fares Resolutions Geneva, 12-13 April 2010 (Memo 0517).

(b) TC31 North and Central Pacific between Korea (Rep. of), Malaysia and USA. Mail Vote 668—Resolution 111nn Flex Fares Package (Memo 0529).

Intended Effective Date: 1 April 2011.

Docket Number: DOT-OST-2011-0055.

Date Filed: March 18, 2011.

Parties: Members of the International Air Transport Association.

Subject: (a) TC123 North, Mid, South Atlantic (except between USA and Korea (Rep. of), Malaysia) Flex Fares Package—Resolutions (Memo 0472).

TC123 North, Mid, South Atlantic (except between USA and Korea (Rep. of), Malaysia) Minutes (Memo 0474).

(b) TC123 North, Mid, South Atlantic (except between USA and Korea (Rep. of), Malaysia).

Mail Vote 669 Resolution 111 at Flex Fares Package (Memo 0481).

Intended Effective Date: 1 April 2011.

Docket Number: DOT-OST-2011-0056.

Date Filed: March 18, 2011.

Parties: Members of the International Air Transport Association.

Subject: (a) TC123 North Atlantic Between USA and Korea (Rep. of), Malaysia Flex Fares Resolutions (Memo 0473).

(b) TC123 North Atlantic Between USA and Korea (Rep. of), Malaysia Mail Vote 670.

Resolution 111 at Flex Fares Package (Memo 0482).

Intended Effective Date: 1 April 2011.

Renee V. Wright,
Program Manager, Docket Operations, Federal Register Liaison.

[FR Doc. 2011-8695 Filed 4-12-11; 8:45 am]

BILLING CODE 4910-9X-P